DEPARTMENT OF ENERGY

Federal Energy Regulatory Commission

[Docket No. ER01-3142-000]

Midwest Independent Transmission System Operator, Inc.; Notice of Filing

December 7, 2001.

Take notice that on November 27, 2001, the Midwest Independent Transmission System operator, Inc. (the Midwest ISO) tendered for filing with the Federal Energy Regulatory Commission (Commission) redlined and clean versions of Substitute Original Sheet No. 162a to the Midwest ISO Open Access Transmission Tariff (OATT), FERC Electric Tariff, First Revised Volume No. 1, which was filed with the Commission on November 26, 2001 and contained a typographical error. The Midwest ISO filing in this proceeding regarded, among other things, Attachments N and N-1 of the Midwest ISO OATT.

The Midwest ISO has electronically served copies of its filing, with attachments, upon all Midwest ISO Members, Member representatives of Transmission Owners and Non-Transmission Owners, the Midwest ISO Advisory Committee participants, Policy Subcommmittee participants, as well as all state commissions within the region. In addition, the filing has been electronically posted on the Midwest ISO's Web site as www.midwestiso.org under the heading “Filings to FERC” for other interested parties in this matter.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before December 18, 2001. Protests will be considered by the Commission to determine the appropriate action to be taken, but will not serve to make protestants parties to the proceedings. Any person wishing to become a party must file a motion to intervene. Copies of this filing are on file with the Commission and are available for public inspection. This filing may also be viewed on the Commission's Web site at http://www.ferc.gov using the “RIMS” link, select “Docket #” and follow the instructions (call 202-208-2222 for assistance). Comments, protests and interventions may be filed electronically via the internet in lieu of paper. See, 18 CFR 385.2001(a)(1)(iii) and the instructions on the Commission's Web site under the “e-filing” link.

Linwood A. Watson, Jr.,
Acting Secretary.

[FR Doc. 01-30794 Filed 12-12-01; 8:45 am]

BILLING CODE 6717-01-P